DEPARTMENT OF HOMELAND SECURITY

Coast Guard

33 CFR Part 151

[USCG-2002-14273]

RIN 1625-AA52

Mandatory Ballast Water Management Program for U.S. Waters; Corrections

AGENCY: Coast Guard, DHS.

ACTION: Correcting amendments.

SUMMARY: The Coast Guard is correcting a final rule that appeared in the Federal Register of July 28, 2004 (69 FR 44952). The final rule requires mandatory ballast water management practices for all vessels equipped with ballast water tanks bound for ports or places within the U.S. or entering U.S. waters. These grammatical corrections clarify the final rule.

DATES: This correction is effective on July 28, 2004.

FOR FURTHER INFORMATION CONTACT: If you have questions on this rule, call Mr. Bivan Patnaik, Project Manager, Environmental Standards Division, Coast Guard, telephone 202-267-1744, email: bpatnaik@comdt.uscg.mil. If you have questions on viewing the docket, call Ms. Andrea M. Jenkins, Program Manager, Docket Operations, telephone 202-366-0271.

SUPPLEMENTARY INFORMATION:

Need for Correction

As published, the final rule contain errors which may prove to be misleading and therefore need to be clarified.

List of Subjects in 33 CFR Part 151

Administrative practice and procedure, Oil pollution, Penalties, Reporting and recordkeeping requirements, Water pollution control.

Accordingly, 33 CFR part 151 is corrected by making the following correcting amendments:

PART 151—VESSELS CARRYING OIL, NOXIOUS LIQUID SUBSTANCES, GARBAGE, MUNICIPAL OR COMMERCIAL WASTE, AND BALLAST WATER

Subpart D—Ballast Water Management for Control of Nonindigenous Species in Waters of the United States

1. The authority citation for subpart D continues to read as follows:

Authority: 16 U.S.C. 4711; Department of Homeland Security Delegation No. 0170.1.

§ 151.2035 [Corrected]

2. In § 151.2035(b)(2), add the word “or” after the semicolon. In paragraph (b)(3), replace the semi-colon with a period.

Dated: September 28, 2004.
Joseph J. Angelo,
Director of Standards, Marine Safety, Security & Environmental Protection.

[FR Doc. 04-22721 Filed 10-7-04; 8:45 am]

BILLING CODE 4910-15-P